NUCLEAR REGULATORY COMMISSION

[Docket No. 50-483]

Union Electric Company; Notice of Withdrawal of Application for Amendment to Facility Operating License

The U.S. Nuclear Regulatory Commission (the Commission) has granted the request of Union Electric Company (the licensee) to withdraw its application dated May 25, 2000, as supplemented by letters dated March 2 and 21, 2001, for proposed amendment to Facility Operating License No. NPF-30 for the Callaway Plant, Unit 1, located in Callaway County, Missouri.

The proposed amendment would have revised Technical Specification 3.3.9, “Boron Dilution Mitigation System (BDMS),” to eliminate the system to avoid recurring inadvertent actuations of the system.

The Commission had previously issued a Notice of Consideration of Issuance of Amendment published in the Federal Register on June 14, 2000 (65 FR 37429). However, by letter dated August 13, 2001, the licensee withdrew the proposed change. Upon further consideration by the licensee, the proposed changes to TS 3.3.9 were no longer considered an improvement to the Callaway Plant. The licensee stated that due to repairs in Refueling Outage 10 (November 1999), there were no inadvertent actuations of the boron dilution mitigation system during Refueling Outage 11 (April-May 2001).

For further details with respect to this action, see the application for amendment dated May 25, 2000, and its supplemental letters dated March 2 and 21, 2001, and the licensee's letter dated August 13, 2001, which withdrew the application for license amendment.

Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, please contact the NRC Public Document Room (PDR) Reference staff at 1-800-397-4209, 301-415-4737 or by e-mail to pdr@nrc.gov.

Dated at Rockville, Maryland, this 20th day of August 2001.
For the Nuclear Regulatory Commission.
Jack Donohew,
Senior Project Manager, Section 2, Project Directorate IV, Division of Licensing Project Management, Office of Nuclear Reactor Regulation.

[FR Doc. 01-21581 Filed 8-24-01; 8:45 am]

BILLING CODE 7590-01-P